DEPARTMENT OF EDUCATION

National Assessment Governing Board; Meeting

AGENCY: National Assessment Governing Board, Department of Education.

ACTION: Notice of open meeting and partially closed sessions.

SUMMARY: The notice sets forth the schedule and proposed agenda of a forthcoming meeting of the National Assessment Governing Board. This notice also describes the functions of the Board. Notice of this meeting is required under Section 10(a)(2) of the Federal Advisory Committee Act. This document is intended to notify members of the general public of their opportunity to attend. Individuals who will need special accommodations in order to attend the meeting (e.g: interpreting services, assistive listening devices, materials in alternative format) should notify Munira Mwalimu at 202-357-6938 or at Munira.Mwalimu@ed.gov no later than July 27, 2010. We will attempt to meet requests after this date, but cannot guarantee availability of the requested accommodation. The meeting site is accessible to individuals with disabilities.

DATES: August 5-7, 2010.

Times

August 5: Committee Meetings

Assessment Development Committee: Closed Session—8:30 a.m. to 3:30 p.m.

Executive Committee: Open Session—4:30 p.m. to 5:15 p.m.; Closed Session—5:15 p.m. to 6:00 p.m.

August 6

Full Board: Open Session—8:30 a.m. to 9:45 a.m.; Closed Session—12:45 p.m. to 1:45 p.m.; Open Session—1:45 p.m. to 5:00 p.m.

Committee Meetings

Assessment Development Committee: Open Session—10:00 a.m. to 11:30 a.m.; Closed Session—11:30 a.m. to 12:30 p.m.;

Committee on Standards, Design and Methodology: Open Session—10:00 a.m. to 11:30 a.m.; Closed Session 11:30 a.m. to 12:20 p.m.

Reporting and Dissemination Committee: Open Session—10:00 a.m. to 12:30 p.m.

August 7

Nominations Committee: Closed Session—7:45 a.m. to 8:15 a.m.

Full Board: Open Session—8:30 a.m. to 12:00 p.m.

Location: Ritz-Carlton Washington DC, 1150 22nd Street, NW., Washington, DC 20037.

FOR FURTHER INFORMATION CONTACT: Munira Mwalimu, Operations Officer, National Assessment Governing Board, 800 North Capitol Street, NW., Suite 825, Washington, DC 20002-4233, Telephone: (202) 357-6938.

SUPPLEMENTARY INFORMATION: The National Assessment Governing Board is established under section 412 of the National Education Statistics Act of 1994, as amended.

The Board is established to formulate policy guidelines for the National Assessment of Educational Progress (NAEP). The Board's responsibilities include the following: Selecting subject areas to be assessed, developing assessment specifications and frameworks, developing appropriate student achievement levels for each grade and subject tested, developing standards and procedures for interstate and national comparisons, developing guidelines for reporting and disseminating results, and releasing initial NAEP results to the public.

On August 5, from 8:30 a.m. to 3:30 p.m., the Assessment Development Committee will meet in closed session to review secure NAEP items for grade 12 economics, grades 4 and 8 reading, and grades 4 and 8 writing. The writing items are for the 2011 operational assessment; the reading items are for the 2013 pilot test; and the economics items are for the 2011 pilot test. The Board will be provided with embargoed test items for review that cannot be discussed in an open meeting. Premature disclosure of data would significantly impede implementation of the NAEP assessments, and is therefore protected by exemption 9(B) of section 552b(c) of Title 5 U.S.C.

On August 5, from 4:30 p.m. to 5:15 p.m., the Executive Committee will meet in open session and thereafter in closed session from 5:15 p.m. to 6:00 p.m. During the closed session on August 5, the Executive Committee will receive a briefing from the National Center for Education Statistics (NCES) on options for NAEP contracts covering assessment years beyond 2011 and discuss budget implications for the NAEP assessment schedule and for international linking studies. The discussion of contract options and costs will address the Congressionally mandated goals and Board policies on NAEP assessments. This part of the meeting must be conducted in closed session because public discussion of this information would disclose independent government cost estimates and contracting options, adversely impacting the confidentiality of the contracting process. Public disclosure of information discussed would significantly impede implementation of the NAEP contracts, and is therefore protected by exemption 9(B) of section 552b(c) of Title 5 U.S.C.

On August 6, the full Board will meet in open session from 8:30 a.m. to 9:45 a.m. The Board will review and approve the meeting agenda and meeting minutes from the May 2010 Board meeting. This session will be followed by remarks from outgoing Board members. The Executive Director of the Governing Board will then provide a report to the Board, followed by updates to the Board from the Director of the Institute of Education Sciences and the Deputy Commissioner of the National Center for Education Statistics. The Board will recess for Committee meetings on August 6 from 10:00 a.m. to 12:30 p. m.

The Reporting and Dissemination Committee will meet in open session on August 6 from 10:00 a.m. to 12:30 p.m.

The Assessment Development Committee will meet in open session from 10:00 a.m. to 11:30 a.m. and thereafter in closed session from 11:30 a.m. to 12:30 p.m. to receive briefings on two NAEP assessment areas. The first briefing will be on response rates to 2009 NAEP science items, which will include illustrative secure items at grades 4, 8, and 12. These data and items have not yet been released to the public, since the 2009 NAEP Science Report Card is scheduled for release in the fall of 2010. The second briefing will be on preliminary student performance data from the 2010 NAEP computer-based writing assessment pilot test at grades 8 and 12. This secure data cannot be discussed in an open meeting prior to official release. Premature disclosure of data would significantly impede implementation of the NAEP assessment, and is therefore protected by exemption 9(B) of section 552b(c) of Title 5 U.S.C.

The Committee on Standards, Design and Methodology (COSDAM) will meet in open session from 10:00 a.m. to 11:25 a.m. and thereafter in closed session from 11:30 a.m. to 12:20 p.m. During the closed session, Committee members will review and discuss 2010 Grade 12 NAEP participation rates and implications. COSDAM members will then review and discuss data on science achievement levels for 2009 at grades 4, 8, and 12, to include achievement levels descriptions, achievement levels cutscores, and exemplar items. The secure data on participation rates and achievement levels cannot be discussed in an open meeting prior to their official release. Premature disclosure of data would significantly impede implementation of the NAEP assessment, and is therefore protected by exemption 9(B) of section 552b(c) of Title 5 U.S.C. Following this closed session COSDAM will meet in open session from 12:20 p.m. to 12:30 p.m. to take a formal vote on the science achievement levels for 2009 at grades 4, 8, and 12.

On August 6, from 12:45 p.m. to 1:45 p.m. the full Board will meet in closed session to receive a briefing on the 2009 National Assessment of Educational Progress (NAEP) Science Achievement Levels at grades 4, 8, and 12. The Board will be provided with embargoed results that cannot be discussed in an open meeting prior to their official release. Premature disclosure of data would significantly impede implementation of the NAEP assessment, and is therefore protected by exemption 9(B) of section 552b(c) of Title 5 U.S.C.

From 1:45 p.m. to 2:30 p.m. the Board will meet in open session to discuss Governance Issues for the Common Core Standards and Assessments. Following this session, from 2:45 p.m. to 4:00 p.m., the Board will receive updates from the Business Policy Task Force and the Council of Chief State School Officers Task Force. From 4:00 p.m. to 5:00 p.m. the Board will receive a briefing on NAEP and International Comparisons. The August 6, 2010 Board meeting is scheduled to conclude at 5:00 p.m.

On August 7, the Nominations Committee will meet in closed session from 7:45 a.m. to 8:15 a.m. to review and discuss specific names for Board vacancies, and their qualifications for Board membership for Board terms beginning October 1, 2010. These discussions pertain solely to internal personnel rules and practices of an agency and will disclose information of a personal nature where disclosure would constitute an unwarranted invasion of personal privacy. As such, the discussions are protected by exemptions 2 and 6 of section 552b(c) of Title 5 U.S.C.

The full Board will meet in open session on August 7 from 8:30 a.m. to 9:30 a.m. to receive a status report on implementation of the Board policy on Testing and Reporting on Students with Disabilities and English Language Learners. Thereafter, the Board will receive Committee reports and take action on Committee recommendations. The August 7, 2010 session of the Board meeting is scheduled to adjourn at 12 noon.

Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street, NW., Washington, DC from 9:00 a.m. to 5:00 p.m. Eastern Time, Monday through Friday.

Electronic Access to This Document: You may view this document, as well as all other documents of this Department published in the Federal Register, in text or Adobe Portable Document Format (PDF) on the Internet at the following site: http://www.ed.gov/news/fedregister/index.html. To use PDF you must have Adobe Acrobat Reader, which is available free at this site. If you have questions about using PDF, call the U.S. Government Printing Office (GPO), toll free at 1-866-512-1800; or in the Washington, DC area at (202) 512-0000.

Note: The official version of this document is the document published in the Federal Register. Free Internet access to the official edition of the Federal Register and the Code of Federal Regulations is available on GPO Access at: http://www.gpoaccess.gov/nara/index.html.

Dated: July 21, 2010.
Cornelia S. Orr,
Executive Director, National Assessment Governing Board, U. S. Department of Education.

[FR Doc. 2010-18204 Filed 7-23-10; 8:45 am]

BILLING CODE 4000-01-P